DEPARTMENT OF THE INTERIOR

Fish and Wildlife Service

[FWS-R3-FHC-2014-N128; FXFR13340300000-145-FF03F00000]

Final Environmental Impact Statement and Final Programmatic Agreement; Ballville Dam Project, Sandusky County, Ohio

AGENCY: Fish and Wildlife Service, Interior.

ACTION: Notice of availability.

SUMMARY: Under the National Environmental Policy Act (NEPA), the U.S. Fish and Wildlife Service (Service) is advising the public of the availability of the Final Environmental Impact Statement (FEIS) for the Ballville Dam Project, in Sandusky County Ohio. Additionally, the Service is advising the public of the availability of the final Programmatic Agreement under Section 106 of the National Historic Preservation Act and its implementing regulations. The Service is furnishing this notice to allow other agencies and the public an opportunity to review and comment on these documents. All comments received will become part of the public record and will be available for review pursuant to NEPA.

DATES: Comments: We will accept comments received or postmarked on or before September 2, 2014. The issuance of the Record of Decision (ROD) will occur no sooner than 30 days after the publication of the Environmental Protection Agency's notice of the Final Environmental Impact Statement in the Federal Register.

ADDRESSES: Document availability: You may obtain copies for review by one of the following methods:

• Internet: You may obtain copies of the documents on the Internet at http://www.fws.gov/midwest/fisheries/ballville-dam.html.

• U.S. Mail: You may obtain the documents by mail from the Fisheries Office in the Midwest Regional Office (see FOR FURTHER INFORMATION CONTACT).

• In-Person: You may view hard copies of the documents in person at the following locations:

○ Birchard Public Library, 423 Croghan Street, Fremont, OH 43420.

○ Ecological Services Field Office, U.S. Fish and Wildlife Service, 4625 Morse Road, Suite 104, Columbus, OH 43230 (614-416-8993, voice; 614-416-8994, fax).

○ U.S. Fish and Wildlife Service, Midwest Regional Office, Fisheries, 9th Floor, 5600 American Boulevard West, Suite 990, Bloomington, MN 55437-1458 (612-713-5350, voice; 612-713-5292, fax).

Comment submission: You may submit comments by one of the following methods:

• U. S. Mail or Hand-Delivery: Brian Elkington, U.S. Fish and Wildlife Service, Midwest Regional Office, Fisheries, 9th Floor, 5600 American Boulevard West, Suite 990, Bloomington, MN 55437-1458.

• Email: Ballvilledam@fws.gov.

• Fax: 612-713-5289 (Attention: Brian Elkington).

We request that you send comments by only the methods described above (see the Public Comments section below for more information).

FOR FURTHER INFORMATION CONTACT: Brian Elkington, 612-713-5168.

SUPPLEMENTARY INFORMATION:

Background

We publish this notice in compliance with the National Environmental Policy Act (NEPA) of 1969, as amended (42 U.S.C. 4321 et seq.), and its implementing regulations (40 CFR 1506.6). The Service, in conjunction with our cooperating agencies, prepared this FEIS for the Ballville Dam Project with the intent to address the environmental, economic, cultural and historical, and safety issues associated with the proposed removal of the dam and a suite of alternatives.

Ballville Dam is currently a complete barrier to upstream fish passage and impedes hydrologic processes. The purpose for the award of Federal funds and preparation of this FEIS are to restore natural hydrological processes over a 40-mile stretch of the Sandusky River, re-open fish passage to 22 miles of new habitat, restore flow conditions for fish access to new habitat above the impoundment, and improve overall conditions for native fish communities in the Sandusky River system both upstream and downstream of the Ballville Dam, restoring self-sustaining fish resources.

Pursuant to the National Historic Preservation Act (NHPA; 16 U.S.C. 470, 470f), the Service has initiated section 106 consultation with the Ohio State Historic Preservation Office for the project. The section 106 process has been completed and the signed Programmatic Agreement is included as an appendix to the FEIS.

Public Involvement

Public scoping for the Draft Environmental Impact Statement (DEIS) was first initiated in the form of a notice of intent to conduct a 30-day scoping period published in the Federal Register on October 21, 2011 (76 FR 65526). Utilizing the public scoping comments, the Service prepared a DEIS to analyze the effects of the alternatives. The DEIS was released for a 60-day public comment on January 27, 2014 (79 FR 4354). A public meeting was held on February 19, 2014, at Terra State Community College, 2830 Napoleon Road, Fremont, OH 43420 to solicit additional input from the public on the DEIS. The official comment period ended on March 28, 2014. Twenty-nine comments were received, and were used to further focus the EIS. The comments and responses have been included as an appendix to the FEIS.

Public Comments

You may submit your comments and materials concerning this notice by one of the methods listed in ADDRESSES. We request that you send comments only by one of the methods described in ADDRESSES.

If you submit a comment that includes personal identifying information, you may request at the top of your document that we withhold this information from public review. However, we cannot guarantee that we will be able to do so.

Authority

We provide this notice under NEPA (42 U.S.C. 4321 et seq.) and it's implementing regulations (40 CFR 1506.6; 43 CFR Part 46), and section 106 of the NHPA (16 U.S.C. 470, 470f) and its implementing regulations (36 CFR part 800). A decision in the form of a ROD will be made no sooner than 30 days after the publication of the EPA's FEIS notice in the Federal Register.

Aaron Woldt,
Deputy Assistant Regional Director, Fisheries, Midwest Region.

[FR Doc. 2014-17917 Filed 7-31-14; 8:45 am]

BILLING CODE 4310-55-P